DEPARTMENT OF HOUSING AND URBAN DEVELOPMENT

[Docket No. FR-4663-N-04]

Notice of Extension of Application Due Dates for Third Round Designation of Seven Urban Empowerment Zones and Designation of Forty Renewal Communities

AGENCY: Office of the Assistant Secretary for Community Planning and Development, HUD.

ACTION: Extension of application due dates.

SUMMARY: This notice extends by 15 business days the application due date for the designation of seven Round III Empowerment Zones (EZs), from September 28, 2001, to October 22, 2001. This notice also extends the application due date for the designation of 40 Renewal Communities (RCs) by 15 business days, from October 12, 2001, to November 2, 2001.

APPLICATION DUE DATE FOR ROUND III EZ DESIGNATION: Completed applications (one original and 2 copies) for Round III EZ designation must be submitted no later than October 22, 2001. See below for specific procedures governing the form of application submission (e.g., mailed application or hand delivery). No facsimile (FAX) applications will be accepted for consideration by HUD.

Delivered Applications. Completed applications (one original and two copies) for Round III EZ designation must be submitted no later than 5:00 p.m. eastern time, on October 22, 2001. Up until 5:00 p.m. on the deadline date, completed applications will be accepted at the address and room number specified below.

Mailed Applications. Applications for Round III EZ designation will be considered timely if received on or before October 22, 2001.

Applications Sent by Overnight Delivery. Overnight delivery items for Round III EZ designation will be considered filed on time if received on or before October 22, 2001.

Electronic Submission of Application Information

Information submitted electronically for Round III EZ designation using the RC/EZ On-Line Application System must be submitted not later than 5:00 PM, Eastern Time on October 22, 2001. This is done by hitting the “Submit” button at each appropriate location in the software. The system will not be available after the deadline.

APPLICATION DUE DATE FOR RC DESIGNATION: Completed applications (one original and 2 copies) for RC designation must be submitted no later than November 2, 2001. See below for specific procedures governing the form of application submission (e.g., mailed application or hand delivery). No facsimile (FAX) applications will be accepted for consideration by HUD.

Delivered Applications. Complete applications (one original and two copies) for RC designation must be received no later than 5:00 PM eastern time, on November 2, 2001. Up until 5:00 PM on the deadline date, completed applications will be accepted at the address and room number specified below.

Mailed Applications. Applications for RC designation will be considered timely if received on or before November 2, 2001.

Applications Sent by Overnight Delivery. Overnight delivery items for RC designation will be considered filed on time if received on or before November 2, 2001.

Electronic Submission of Application Information

Information submitted electronically for RC designation using the RC/EZ On-line Application System must be submitted not later than 5:00 PM, Eastern Time on November 2, 2001. This is done by hitting the “Submit” button at the appropriate location in the software. The system will not be available after the deadline.

ADDRESSES: Address for submitting all applications. Completed paper applications (one original and two copies) for either Round III EZ designation or RC designation must be submitted to: Department of Housing and Urban Development, Office of Community Planning and Development, c/o Processing and Control Unit, Room 7255, 451 7th Street, SW, Washington, DC 20410, by mail or hand delivery.

For Round III EZ Application and Other Materials. For a copy of the EZ Round III Application Guidebook, which includes the Nomination Forms and the EZ Round III rule at 24 CFR part 598 (which also implemented EZ Round II), please call the Community Connections Information Clearinghouse at (800) 998-9999. Round III publications are also available on the HUD web site at: http://www.hud.gov/offices/cpd/ezec. Requests for application materials should be made immediately to insure sufficient time for application preparation. Hearing- or speech-impaired persons should use the Federal Information Relay Service telephone number, (800) 877-8339, to obtain application materials.

The Round III EZ designation publications consist of:

• The Notice Inviting Applications for Round III EZ designation published on July 19, 2001 (66 FR 37878);

• Urban Application Guide for Empowerment Zones Round III (Application Guide and Nomination forms);

• The Round II and Round III Rule at 24 CFR part 598;

• Tax Incentive Guide for Businesses in Renewal Communities, Empowerment Zones and Enterprise Communities; and

• Federal Programs Guide.

For RC Application and Other Materials. For a copy of all RC publications, including the Application Guide, Nomination Forms, and the interim rule (24 CFR part 599, published July 9, 2001, 66 FR 35850), please call the Community Connections Information Clearinghouse at (800) 998-9999. The RC publications are also available from HUD's web site at: http://www.hud.gov/offices/cpd/ezec. Requests for application materials should be made immediately to allow sufficient time for application preparation. Hearing- or speech-impaired persons should use the Federal Information Relay Service telephone number, (800) 877-8339, to obtain application materials.

The Renewal Community publications consist of:

• The Notice Inviting Applications for RC designation published on August 7, 2001 (66 FR 41432);

• The Renewal Communities Interim Rule (24 CFR part 599);

• Renewal Communities Application Guide, 2001 (RC Application Guide); and

• Tax Incentive Guide for Businesses in the Renewal Communities, Empowerment Zones, and Enterprise Communities.

FOR FURTHER INFORMATION CONTACT: For technical questions relating to Round III EZ designation, contact Lisa Hill, Empowerment Zone/Enterprise Community Initiative; for technical questions relating to RC designation, contact John Haines, Renewal Community Initiative; both with the Office of Community Planning and Development, Department of Housing and Urban Development, 451 Seventh Street, SW, Room 7130, Washington, DC 20410, (202) 708-6339. Hearing- or speech-impaired individuals may call (800) 877-8339 (the Federal Information Relay Service—TTY).

SUPPLEMENTARY INFORMATION: The Community Renewal Tax Relief Act of 2000 (CRTR Act) authorizes HUD to designate up to 40 Renewal Communities within which special tax incentives would be available. The CRTR Act also authorizes the designation of nine Round III Empowerment Zones (EZs). Seven of the Round III EZs are to be designated in urban areas by the Secretary of HUD. The remaining two Round III EZs are to be designated in rural areas by the Secretary of Agriculture.

On July 19, 2001, at 66 FR 37878, HUD published a Notice Inviting Applications for Round III EZ designation, with an application due date of September 28, 2001. A Notice Inviting Applications for RC designation was published on August 7, 2001 (66 FR 41432), with an application due date of October 26, 2001. Because of the widespread disruptions resulting from recent tragic events, HUD in this Notice is extending by 15 business days the application due dates for both the Round III EZ designations, to October 22, 2001, and the RC designations, to November 2, 2001.

While these extended due dates are available to all communities applying for RC or Round III EZ designations, many applicants may still be able to keep their schedules in meeting the original due dates and, to the extent feasible, HUD encourages them to do so.

Dated: September 19, 2001.
Roy A. Bernardi,
Assistant Secretary for Community Planning and Development

[FR Doc. 01-23845 Filed 9-24-01; 8:45 am]

BILLING CODE 4210-29-P